DEPARTMENT OF AGRICULTURE

Commodity Credit Corporation

Farm Service Agency

[Docket ID FSA-2022-0017]

Information Collection Request; Application for Payment of Amounts Due Persons Who Have Died, Disappeared, or Have Been Declared Incompetent

AGENCY: Commodity Credit Corporation and Farm Service Agency, USDA.

ACTION: Notice; correction.

SUMMARY: The Commodity Credit Corporation (CCC) and the Farm Service Agency (FSA) are making a correction to the notice that was published on December 6, 2022. We are making a minor correction specifically in the description of the information collection request section to correct a typographical error in a number.

DATES: We will consider comments that we receive by February 6, 2023.

ADDRESSES: We invite you to submit comments on this notice. You may submit comments by any of the following methods:

• Federal eRulemaking Portal: Go to http://regulations.gov. Go to http://www.regulations.gov and search for Docket ID FSA-2022-0017. Follow the online instructions for submitting comments.

• Mail: Joe Lewis Jr., Agricultural Program Specialist, USDA, FSA STOP 0572, 1400 Independence Avenue SW, Washington, DC 20250-0572. In your comments, include date, volume, and page number of this issue of the Federal Register.

You may also send comments to the Desk Officer for Agriculture, Office of Information and Regulatory Affairs, Office of Management and Budget, Washington, DC 20503. Copies of the information collection may be requested by contacting Joe Lewis Jr. at the above address.

FOR FURTHER INFORMATION CONTACT: Mary Ann Ball, by email: maryann.ball@usda.gov; by telephone: (202) 720-4283.

SUPPLEMENTARY INFORMATION: We published the notice in the Federal Register on December 6, 2022, (87 FR 74595) to request public comments on the Application for Payment of Amounts Due Persons Who Have Died, Disappeared, or Have Been Declared Incompetent information collection request. This notice is making a minor correction in the Description of Information Collection section. The OMB control number was listed as “0560-0226” in the section; the OMB control number should have been listed as “0560-0026” for the information collection request covering Application for Payment of Amounts Due Persons Who Have Died, Disappeared, or Have Been Declared Incompetent. This corrects the typographical error in the OMB control number.

Zach Ducheneaux,
Administrator, Farm Service Agency, and Executive Vice President, Commodity Credit Corporation.

[FR Doc. 2022-28106 Filed 12-23-22; 8:45 am]

BILLING CODE 3411-EZ-P